DEPARTMENT OF THE INTERIOR

Fish and Wildlife Service

Notice of Availability of Final Comprehensive Conservation Plan (CCP) for Salt Plains National Wildlife Refuge, Jet, OK

AGENCY: Fish and Wildlife Service, Department of the Interior.

ACTION: Notice of availability.

SUMMARY: The U.S. Fish and Wildlife Service (Service) announces that the Final CCP is available for Salt Plains National Wildlife Refuge (Refuge). This CCP was prepared pursuant to the National Wildlife Refuge System Administration Act of 1966, as amended by the National Wildlife Refuge System Improvement Act of 1997, and the National Environmental Policy Act of 1969. Goals and objectives in the CCP describe how the Service intends to manage the Refuge over the next 15 years.

ADDRESSES: Copies of the CCP are available on compact disk or in hard copy, and can be obtained by writing: Chris Perez, Natural Resource Planner, U.S. Fish and Wildlife Service, Route 2, Box 202A, Alamo, Texas 78516. The CCP may also be available for viewing or downloaded online at: http://www.fws.gov/southwest/refuges/plan/index.html.

FOR FURTHER INFORMATION CONTACT: Jon M. Brock, Refuge Manager, Salt Plains National Wildlife Refuge, Route 1, P.O. Box 76, Jet, Oklahoma 73749: telephone: 580-626-4794; or Chris Perez (See ADDRESSES), telephone: 956-784-7553; e-mail: chris_perez@fws.gov.

SUPPLEMENTARY INFORMATION: The Salt Plains National Wildlife Refuge is located on the Salt Fork of the Arkansas River at the Great Salt Plains Lake in north-central Oklahoma. This 32,028 acre refuge is roughly equal parts of upland, open water, and salt flats at the confluence of several streams and rivers making it one of the most important migratory bird stopover, wintering, and nesting habitats in the Central Great Plains region. Three federally listed species use the Refuge on a seasonal basis. Federally endangered whooping cranes use the Refuge as a key migratory stopover and feeding area and the Refuge is designated critical habitat for the crane (43 FR 20938, May 15, 1978). Least terns nest in large numbers every year on the salt flats and threatened bald eagles winter on the Refuge. It was originally established on March 26, 1930 by Executive Order No. 5314 “* * * as a refuge and breeding grounds for birds.”

The National Wildlife Refuge System Administration Act of 1966, as amended by the National Wildlife Refuge System Improvement Act of 1997 (16 U.S.C. 668dd-668ee et seq.), requires the Service to develop a CCP for each national wildlife refuge. The purpose of developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. These CCPs will be reviewed and updated at least every 15 years in accordance with the National Wildlife Refuge System Administration Act of 1966, as amended by the National Wildlife Refuge System Improvement Act of 1997, and the National Environmental Policy Act of 1969.

The availability of the Draft CCP and Environmental Assessment (EA) for a 60-day public review and comment period was announced in the Federal Register on November 21, 2005 (70 FR 70089). The Draft CCP/EA identified and evaluated three alternatives for managing the Refuge for the next 15 years. Alternative A, the No Action Alternative, would have continued current management of the Refuge. Alterative B, the Preferred Alternative, emphasized an updated and integrated approach to protecting, maintaining, and restoring native habitats for migratory birds, waterfowl, federally listed species, and resident wildlife. The public use program would be improved by providing increased opportunities for public uses, environmental education, and interpretation. This alternative also called for expanding partnership opportunities to help accomplish the vision and goals of the Refuge. Alternative C proposed to provide a greater emphasis on expanding public uses such as all types of hunting, hiking, and necessary facilities such as additional roads and trails for optimal access. Based on this assessment and comments received, the Preferred Alternative (Alternative B) was selected for implementation. This alternative was selected because it best meets the purposes and goals of the Refuge, as well as the goals of the National Wildlife Refuge System. Management of the Refuge for the next 15 years will focus on encouraging ecological integrity, restoring habitats such as native prairie, controlling invasive plant species, protecting federally listed species such as the whooping crane, least tern, and bald eagle, and enhancing habitat for grassland birds, waterfowl, and other resident wildlife. Opportunities for wildlife-dependent activities such as hunting, fishing, wildlife observation, photography, environmental education, and interpretation will be enhanced. Partnerships with county, State, and Federal agencies, private landowners, and conservation groups will also enable the refuge to achieve its goals and objectives, minimize costs, and bridge relationships with other stakeholder.

Dated: August 3, 2006.
Larry G. Bell,
Acting Regional Director, U.S. Fish and Wildlife Service, Albuquerque, New Mexico.

This document was received at the Office of the Federal Register on April 18, 2007.

[FR Doc. E7-7635 Filed 4-20-07; 8:45 am]

BILLING CODE 4310-55-P